DEPARTMENT OF COMMERCE

International Trade Administration

[A-201-805]

Final Results of Antidumping Duty Changed Circumstances Review: Certain Circular Welded Non-Alloy Steel Pipe and Tube from Mexico

AGENCY: Import Administration, International Trade Administration, Department of Commerce.

SUMMARY: On June 18, 2009, the Department of Commerce (the Department) made its preliminary determination that Ternium Mexico S.A. de C.V. (Ternium) is the successor-in-interest to Hylsa S.A. de C.V. (Hylsa) and should be treated as such for antidumping duty cash deposit purposes. See Notice of Preliminary Results of Antidumping Duty Changed Circumstances Review: Certain Circular Welded Non-Alloy Steel Pipe and Tube from Mexico, 74 FR 28883 (June 18, 2009) (Preliminary Results). For purposes of these final results of review, the Department has determined that Ternium is the successor-in-interest to Hylsa and, as a result, should be accorded the same treatment previously accorded to Hylsa in regard to the antidumping duty order on certain circular welded non-alloy steel pipe and tube (standard pipe and tube) from Mexico as of the date of publication of this notice in the Federal Register.

DATES: Effective Date: August 18, 2009.

FOR FURTHER INFORMATION CONTACT: John Drury or Brian Davis, AD/CVD Operations, Office 7, Import Administration, International Trade Administration, U.S. Department of Commerce, 14th Street and Constitution Avenue, NW, Washington, DC 20230; telephone: (202) 482-0195 or (202) 482-7924, respectively.

SUPPLEMENTARY INFORMATION:

Background

On September 3, 2008, Ternium requested that the Department conduct a changed circumstances review of the antidumping duty order on standard pipe and tube from Mexico to determine whether Ternium is the successor-in-interest to Hylsa and should be treated as such for antidumping duty cash deposit purposes. See Notice of Initiation of Antidumping Duty Changed Circumstances Review: Circular Welded Non-Alloy Steel Pipe and Tube, 73 FR 63682 (October 27, 2008) (Notice of Initiation). On June 18, 2009, the Department made its preliminary determination that Ternium is the successor-in-interest to Hylsa and should be treated as such for antidumping duty cash deposit purposes. See Preliminary Results.

On July 14, 2009, the Department published in the Federal Register a notice extending the time limit for these final results to August 17, 2009. See Circular Welded Non-Alloy Steel Pipe and Tube from Mexico; Extension of Time Limit for Final Results of Antidumping Duty Changed Circumstances Review, 74 FR 33994 (July 14, 2009).

In the Preliminary Results, we stated that interested parties could request a hearing no later than 30 days after the publication of the Preliminary Results, submit case briefs to the Department no later than 30 days after the publication of the Preliminary Results, and submit rebuttal briefs, limited to the issues raised in those case briefs, five days subsequent to the case briefs' due date. We did not receive any hearing requests or comments on the Preliminary Results.

Scope of the Order

The products covered by this order are circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low-pressure conveyance of water, steam, natural gas, and other liquids and gases in plumbing and heating systems, air conditioning units, automatic sprinkler systems, and other related uses, and generally meet ASTM A-53 specifications.

Standard pipes and tubes may also be used for light load-bearing applications, such as for fence tubing, and as structural pipe tubing used for framing and support members for reconstruction or load-bearing purposes in the construction, shipbuilding, trucking, farm equipment, and related industries. Unfinished conduit pipe is also included in this order. All carbon steel pipes and tubes within the physical description outlined above are included within the scope of this order, except line pipe, oil country tubular goods, boiler tubing, mechanical tubing, pipe and tube hollows for redraws, finished scaffolding, and finished conduit. Standard pipe and tube that is dual or triple certified/stenciled that enters the United States as line pipe of a kind used for oil or gas pipelines is also not included in this order.

Imports of the products covered by this order are currently classifiable under the following Harmonized Tariff Schedule (HTS) subheadings: 7306.30.10.00, 7306.30.50.25, 7306.30.50.32, 7306.30.50.40, 7306.30.50.55, 7306.30.50.85, and 7306.30.50.90. Although the HTS subheadings are provided for convenience and customs purposes, our written description of the scope of this order is dispositive.

Final Results of Changed Circumstances Review

Based on the information provided by Ternium, the Department's analysis in the Preliminary Results, and the fact that interested parties did not submit any briefs during the comment period, the Department hereby determines that Ternium is the successor-in-interest to Hylsa for antidumping duty cash deposit purposes.

Instructions to U.S. Customs and Border Protection

The Department will instruct U.S. Customs and Border Protection to continue to suspend liquidation of all shipments of the subject merchandise produced and exported by Ternium entered, or withdrawn from warehouse, for consumption, on or after the publication date of this notice in the Federal Register at 10.38 percent (i.e., Hylsa's cash deposit rate). This deposit requirement shall remain in effect until further notice.

Notification Regarding Administrative Protective Order

This notice also serves as a reminder to parties subject to administrative protective orders (APOs) of their responsibility concerning the disposition of proprietary information disclosed under APO in accordance with 19 CFR 351.306. Timely written notification of the return/destruction of APO materials or conversion to judicial protective order is herby requested. Failure to comply with the regulations and terms of an APO is a sanctionable violation.

We are issuing and publishing these final results and notice in accordance with sections 751(b)(1) and 777(i)(1) and (2) of the Tariff Act of 1930, as amended, and 19 CFR 351.216.

Dated: August 11, 2009.
Carole Showers,
Acting Deputy Assistant Secretary for Policy and Negotiations.

[FR Doc. E9-19783 Filed 8-17-09; 8:45 am]

BILLING CODE 3510-DS-S